DEPARTMENT OF COMMERCE

National Oceanic and Atmospheric Administration

[RTID 0648-XA015]

Western Pacific Fishery Management Council; Public Meeting

AGENCY: National Marine Fisheries Service (NMFS), National Oceanic and Atmospheric Administration (NOAA), Commerce.

ACTION: Notice of a public meeting and hearing.

SUMMARY: The Western Pacific Fishery Management Council (Council) will hold public meetings and scoping sessions to discuss management of small-boat pelagic fisheries in Hawaii.

DATES: The Council will hold meetings in Honolulu, Oahu on Tuesday, February 4, 2020, between 6 p.m. and 8 p.m.; in Kona, HI on Wednesday, February 5, 2020, between 6 p.m. and 8 p.m.; in Hilo, HI on Thursday, February 6, 2020, between 6 p.m. and 8 p.m.; in Kahului, Maui on Monday, February 10, 2020, between 6 p.m. and 8 p.m.; in Lihue, Kauai on Tuesday, February 11, 2020, between 6 p.m. and 8 p.m.; and in Kaneohe, Oahu on Thursday, February 13, 2020, between 6 p.m. and 8 p.m. All times listed are local island times. For specific times and agendas, see SUPPLEMENTARY INFORMATION.

ADDRESSES: The Honolulu, Oahu meeting will be held at the Washington Intermediate School Cafeteria, 1633 S King St., Honolulu, HI 96826. The Kona, Hawaii meeting will be held at the West Hawaii Civic Center, Building G, 74-5044 Ane Keohokalole Hwy., Kailua-Kona, HI 96740. The Hilo, Hawaii meeting will be held at Aunt Sally Kaleohano's Luau Hale, 799 Piilani St., Hilo, HI 96720. The Kahului, Maui meeting will be held at the Lihikai Elementary School Cafeteria, 355 S Papa Ave., Kahului, HI 96732. The Kauai meeting will be held at the Chiefess Kamakahelei Middle School Cafeteria, 4431 Nuhou St., Lihue, HI 96766. The Kaneohe, Oahu meeting will be held at the Benjamin Parker Elementary School Cafeteria, 45-259 Waikalua Rd., Kaneohe, HI 96744.

FOR FURTHER INFORMATION CONTACT: Kitty M. Simonds, Executive Director, Western Pacific Fishery Management Council; telephone: (808) 522-8220.

SUPPLEMENTARY INFORMATION: Public scoping and comment periods will be provided in the agenda. The order in which agenda items are addressed may change. The meetings will run as late as necessary to complete scheduled business.

Schedule and Agenda for All Meetings

1. Welcome and Introductions

2. Public Scoping Session Goals and Objectives

3. Informational Briefing

a. Background on the Hawaii Small-boat Pelagic Fishery

b. Potential Management Scenarios

c. Discussion Questions

4. Public Comment/Scoping Session

5. Report on Next Steps

Special Accommodations

These meetings are physically accessible to people with disabilities. Requests for sign language interpretation or other auxiliary aids should be directed to Kitty M. Simonds, (808) 522-8220 (voice) or (808) 522-8226 (fax), at least 5 days prior to the meeting date.

Authority: 16 U.S.C. 1801 et seq.

Dated: January 16, 2020.
Tracey L. Thompson,
Acting Deputy Director, Office of Sustainable Fisheries, National Marine Fisheries Service.

[FR Doc. 2020-00944 Filed 1-21-20; 8:45 am]

BILLING CODE 3510-22-P